DEPARTMENT OF THE TREASURY

United States Mint

Pricing Changes for 2017 United States Mint Numismatic Products

AGENCY: United States Mint, Department of the Treasury.

ACTION: Notice.

SUMMARY: The United States Mint is announcing pricing changes for some 2017 United States Mint Numismatic Products, in accordance with the list below:

• United States Mint Proof Set®—$26.95

• United States Mint Silver Proof Set®—$47.95

• United States Mint Uncirculated Set®—$20.95

FOR FURTHER INFORMATION CONTACT: Katrina McDow, Marketing Specialist, Numismatic and Bullion Directorate; United States Mint; 801 9th Street NW.; Washington, DC 20220; or call 202-354-8495.

Authority: 31 U.S.C. 5111, 5112, 5132 & 9701.

Dated: January 25, 2017.
David Motl,
Acting Deputy Director, United States Mint.

[FR Doc. 2017-02126 Filed 1-31-17; 8:45 am]

BILLING CODE P